DEPARTMENT OF DEFENSE

Department of the Army

Armed Forces Epidemiological Board (AFEB)

AGENCY: Office of The Surgeon General, DoD.

ACTION: Notice of meeting.

SUMMARY: In accordance with section 10(a)(2) of Public Law 92-463, The Federal Advisory Committee Act, this announces the forthcoming AFEB meeting. This Board will meet from 0730-1630 on Tuesday, 06 February 2001, and 0730-1630 on Wednesday, 07 February 2001, and 0730-1300 on Thursday, 08 February 2001. The purpose of the meeting is to address pending and new Board issues, provide briefings for Board members on topics related to ongoing and new Board issues, conduct subcommittee meetings, and conduct an executive working session. The meeting location will be at the Tripler Army Medical Center, Hawaii.

This meeting will be open to the public, but limited by space accommodations. Any interested person may attend, appear before or file statements with the committee at the time and in the manner permitted by the committee.

FOR FURTHER INFORMATION CONTACT: COL Benedict Diniega, AFEB Executive Secretary, Armed Forces Epidemiological Board, Skyline Six, 5109 Leesburg Pike, Room 682, Falls Church, Virginia 22041-3258, (703) 681-8012/4.

SUPPLEMENTARY INFORMATION: None.

Gregory D. Showalter,
Army Federal Register Liaison Officer.

[FR Doc. 00-31979 Filed 12-15-00; 8:45 am]

BILLING CODE 3710-08-M